DEPARTMENT OF TRANSPORTATION

Federal Aviation Administration

14 CFR Part 95

[Docket No. 30841; Amdt. No. 500]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, May 31, 2012.

FOR FURTHER INFORMATION CONTACT: Rick Dunham, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 27, 2012.
John M. Allen,
Deputy Director, Flight Standards Service.

Adoption of the Amendment

Accordingly, pursuant to the authority delegated to me by the Administrator, part 95 of the Federal Aviation Regulations (14 CFR part 95) is amended as follows effective at 0901 UTC, May 31, 2012.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 500 effective date, May 31, 2012]
From | To | MEA
Color Routes
§ 95.4 Green Federal Airway G9 Is Amended To Read in Part
Oscarville, AK NDB | Zekeg, AK FIX
NE BND |  | *6000
SW BND |  | *3000
*2100—MOCA
Zekeg, AK FIX | Cairn Mountain, AK NDB | 6000
§ 95.6 Blue Federal Airway B27 Is Amended To Read in Part
Chinook, AK NDB | Wanix, AK FIX | *8000
*7500—MOCA
Wanix, AK FIX | Oscarville, AK NDB
NW BND |  | 4000
SE BND |  | 8000

From | To | MEA | MAA
§ 95.3000 Low Altitude RNAV Routes
§ 95.3212 RNAV Route T212 Is Added To Read
Weard, NY FIX | Weets, NY FIX | 4600 | 17500
Weets, NY FIX | Tresa, NY FIX | 3200 | 17500
Tresa, NY FIX | Stuby, CT FIX | 3200 | 17500
Stuby, CT FIX | Veers, CT FIX | 3400 | 17500
Veers, CT FIX | Ronge, CT FIX | 3500 | 17500
Ronge, CT FIX | Nelie, CT FIX | 3500 | 17500
Nelie, CT FIX | Darth, CT FIX | 2800 | 17500
Darth, CT FIX | Putnam, CT VOR/DME | 3000 | 17500
§ 95.3255 RNAV Route T255 Is Added To Read
Marthas Vineyard, MA VOR/DME | Falma, RI FIX | 2000 | 17500
Falma, RI FIX | Providence, RI VORTAC | 2000 | 17500
Providence, RI VORTAC | Noxse, RI FIX | 2500 | 17500
Noxse, RI FIX | Blatt, CT FIX | 2500 | 17500
Blatt, CT FIX | Nelie, CT FIX | 2800 | 17500
§ 95.3300 RNAV Route T300 Is Added To Read
Albany, NY VORTAC | Canan, NY FIX | 3400 | 17500
Canan, NY FIX | Shigy, MA FIX | 3900 | 17500
Shigy, MA FIX | Stela, MA FIX | 4000 | 17500
Stela, MA FIX | Molds, MA FIX | 3900 | 17500
Molds, MA FIX | Tomes, MA FIX | 3400 | 17500
Tomes, MA FIX | Cobol, MA FIX | 3400 | 17500
Cobol, MA FIX | Nelie, CT FIX | 3300 | 17500
Nelie, CT FIX | Wipor, CT FIX | 2600 | 17500
Wipor, CT FIX | Norwich, CT VOR/DME | 2400 | 17500
Norwich, CT VOR/DME | Lafay, RI FIX | 2300 | 17500
Lafay, RI FIX | Minnk, RI FIX | 2100 | 17500
Minnk, RI FIX | Falma, RI FIX | 1800 | 17500
Falma, RI FIX | Marthas Vineyard, MA VOR/DME | 2000 | 17500
§ 95.4000 High Altitude RNAV Routes
§ 95.4140 RNAV Route Q140 Is Added To Read
Wobed, WA FIX | Getng, WA FIX | *25000 | 45000
*18000—GNSS MEA
*DME/DME/IRU MEA
Getng, WA FIX | Cordu, ID FIX | *25000 | 45000
*18000—GNSS MEA
*DME/DME/IRU MEA
Cordu, ID FIX | Petiy, MT FIX | *30000 | 45000
*18000—GNSS MEA
*DME/DME/IRU MEA
Petiy, MT FIX | Chote, MT FIX | *32000 | 45000
*18000—GNSS MEA
*DME/DME/IRU MEA
Chote, MT FIX | Lewit, MT FIX | *26000 | 45000
*18000—GNSS MEA
*DME/DME/IRU MEA
Lewit, MT FIX | Sayor, MT FIX | *24000 | 45000
*18000—GNSS MEA
*GNSS MEA
Sayor, MT FIX | Wiltn, ND FIX | *18000 | 45000
*GNSS MEA
Wiltn, ND FIX | Ttail, MN FIX | *18000 | 45000
*GNSS MEA
Ttail, MN FIX | Cesna, WI FIX | *18000 | 45000
*GNSS MEA
Cesna, WI FIX | Eegee, WI FIX | *18000 | 45000
*GNSS MEA
§ 95.4142 RNAV Route Q142 Is Added To Read
Metow, WA FIX | Mullan Pass, ID VOR/DME | *26000 | 45000
*18000—GNSS MEA
*DME/DME/IRU MEA
Mullan Pass, ID VOR/DME | Keeta, MT FIX | *26000 | 45000
*18000—GNSS MEA
*DME/DME/IRU MEA
Keeta, MT FIX | Okvuj, MT FIX | *24000 | 45000
*18000—GNSS MEA
*DME/DME/IRU MEA
Okvuj, MT FIX | Kixco, MT FIX | *22000 | 45000
*18000—GNSS MEA
*DME/DME/IRU MEA
§ 95.4144 RNAV Route Q144 Is Added To Read
Ziran, WA FIX | Zoomr, WA FIX | *18000 | 45000
*GNSS MEA
Zoomr, WA FIX | Blows, MT FIX | *21000 | 45000
*18000—GNSS MEA
*DME/DME/IRU MEA
Blows, MT FIX | Keeta, MT FIX | *21000 | 45000
*18000—GNSS MEA
*DME/DME/IRU MEA
Keeta, MT FIX | Lewit, MT FIX | *21000 | 45000
*18000—GNSS MEA
*DME/DME/IRU MEA
§ 95.4146 RNAV Route Q146 Is Added To Read
Cashs, WA FIX | Blunt, WA FIX | *24000 | 45000
*18000—GNSS MEA
*DME/DME/IRU MEA
Blunt, WA FIX | Diphu, MT FIX | *24000 | 45000
*18000—GNSS MEA
*DME/DME/IRU MEA
Diphu, MT FIX | Cusda, MT FIX | *24000 | 45000
*18000—GNSS MEA
*DME/DME/IRU MEA
Cusda, MT FIX | Zerzo, MT FIX | *24000 | 45000
*18000—GNSS MEA
*DME/DME/IRU MEA
Zerzo, MT FIX | Kixco, MT FIX | *22000 | 45000
*18000—GNSS MEA
*DME/DME/IRU MEA
Kixco, MT FIX | Timmr, ND FIX | *20000 | 45000
*18000—GNSS MEA
*DME/DME/IRU MEA
Timmr, ND FIX | Smerf, SD FIX | *20000 | 45000
*18000—GNSS MEA
*DME/DME/IRU MEA
Smerf, SD FIX | Huffr, MN FIX | *18000 | 45000
*GNSS MEA
§ 95.4148 RNAV Route Q148 Is Added To Read
Stevs, WA FIX | Zaxul, WA FIX | *26000 | 45000
*18000—GNSS MEA
*DME/DME/IRU MEA
Zaxul, WA FIX | Finut, WA FIX | *26000 | 45000
*18000—GNSS MEA
*DME/DME/IRU MEA
Finut, WA FIX | Wedak, MT FIX | *26000 | 45000
*18000—GNSS MEA
*DME/DME/IRU MEA
Wedak, MT FIX | Waide, MT FIX | *26000 | 45000
*18000—GNSS MEA
*DME/DME/IRU MEA
Waide, MT FIX | Jugiv, WY FIX | *26000 | 45000
*18000—GNSS MEA
*DME/DME/IRU MEA
Jugiv, WY FIX | Medicine Bow, WY VOR/DME | *26000 | 45000
*18000—GNSS MEA
*DME/DME/IRU MEA
Medicine Bow, WY VOR/DME | Moctu, WY FIX | *26000 | 45000
*18000—GNSS MEA
*DME/DME/IRU MEA
Moctu, WY FIX | Lewoy, CO FIX | *26000 | 45000
*18000—GNSS MEA
*DME/DME/IRU MEA
Lewoy, CO FIX | Cugga, KS FIX | *26000 | 45000
*18000—GNSS MEA
*DME/DME/IRU MEA
Cugga, KS FIX | Penut, KS FIX | *26000 | 45000
*18000—GNSS MEA
*DME/DME/IRU MEA
Penut, KS FIX | Kirke, KS FIX | *26000 | 45000
*18000—GNSS MEA
*DME/DME/IRU MEA
Kirke, KS FIX | Morrr, KS FIX | *26000 | 45000
*18000—GNSS MEA
*DME/DME/IRU MEA
Morrr, KS FIX | Bartlesville, OK VOR/DME | *26000 | 45000
*18000—GNSS MEA
*DME/DME/IRU MEA
§ 95.4150 RNAV Route Q150 Is Added To Read
Stevs, WA FIX | Zaxul, WA FIX | *24000 | 45000
*18000—GNSS MEA
*DME/DME/IRU MEA
Zaxul, WA FIX | Lezle, WA FIX | *24000 | 45000
*18000—GNSS MEA
*DME/DME/IRU MEA
Lezle, WA FIX | Baxgo, ID FIX | *24000 | 45000
*18000—GNSS MEA
*DME/DME/IRU MEA
Baxgo, ID FIX | Lamon, ID FIX | *24000 | 45000
*18000—GNSS MEA
*DME/DME/IRU MEA
Lamon, ID FIX | Ganne, WY FIX | *24000 | 45000
*18000—GNSS MEA
*DME/DME/IRU MEA
Ganne, WY FIX | Oppee, WY FIX | *24000 | 45000
*18000—GNSS MEA
*DME/DME/IRU MEA
§ 95.4152 RNAV Route Q152 Is Added To Read
Suned, WA FIX | Lezle, WA FIX | *24000 | 45000
*18000—GNSS MEA
*DME/DME/IRU MEA
Lezle, WA FIX | Wedak, MT FIX | *24000 | 45000
*18000—GNSS MEA
*DME/DME/IRU MEA
Wedak, MT FIX | Ikfom, WY FIX | *24000 | 45000
*18000—GNSS MEA
*DME/DME/IRU MEA
Ikfom, WY FIX | Wuvut, WY FIX | *24000 | 45000
*18000—GNSS MEA
*DME/DME/IRU MEA
Wuvut, WY FIX | O'Neill, NE VORTAC | *24000 | 45000
*18000—GNSS MEA
*DME/DME/IRU MEA
§ 95.4154 RNAV Route Q154 Is Added To Read
Wanta, WA FIX | Jelti, OR FIX | *24000 | 45000
*18000—GNSS MEA
*DME/DME/IRU MEA
Jelti, OR FIX | Hovel, ID FIX | *24000 | 45000
*18000—GNSS MEA
*DME/DME/IRU MEA
Hovel, ID FIX | Veluy, ID FIX | *24000 | 45000
*18000—GNSS MEA
*DME/DME/IRU MEA
Veluy, ID FIX | Burley, ID VOR/DME | *24000 | 45000
*18000—GNSS MEA
*DME/DME/IRU MEA
Burley, ID VOR/DME | Pimie, UT FIX | *24000 | 45000
*18000—GNSS MEA
*DME/DME/IRU MEA
Pimie, UT FIX | Nagne, UT FIX | *24000 | 45000
*18000—GNSS MEA
*DME/DME/IRU MEA
Nagne, UT FIX | Bongo, UT FIX | *24000 | 45000
*18000—GNSS MEA
*DME/DME/IRU MEA
Bongo, UT FIX | Pitmn, CO FIX | *24000 | 45000
*18000—GNSS MEA
*DME/DME/IRU MEA
Pitmn, CO FIX | Taylr, CO FIX | *24000 | 45000
*18000—GNSS MEA
*DME/DME/IRU MEA
Taylr, CO FIX | Gosip, CO FIX | *24000 | 45000
*18000—GNSS MEA
*DME/DME/IRU MEA
Gosip, CO FIX | Kento, NM FIX | *24000 | 45000
*18000—GNSS MEA
*DME/DME/IRU MEA
Kento, NM FIX | Nosew, TX FIX | *24000 | 45000
*18000—GNSS MEA
*DME/DME/IRU MEA
Nosew, TX FIX | Bowie, TX VORTAC | *24000 | 45000
*18000—GNSS MEA
*DME/DME/IRU MEA
§ 95.4156 RNAV Route Q156 Is Added To Read
Stevs, WA FIX | Zaxul, WA FIX | *18000 | 45000
*GNSS MEA
Zaxul, WA FIX | Finut, WA FIX | *24000 | 45000
*18000—GNSS MEA
*#DME/DME/IRU MEA
Finut, WA FIX | Tuffy, MT FIX | *24000 | 45000
*18000—GNSS MEA
*DME/DME/IRU MEA
Tuffy, MT FIX | Upuge, MT FIX | *24000 | 45000
*18000—GNSS MEA
*DME/DME/IRU MEA
Upuge, MT FIX | Hexol, MT FIX | *24000 | 45000
*18000—GNSS MEA
*DME/DME/IRU MEA
Hexol, MT FIX | Tough, MT FIX | *24000 | 45000
*18000—GNSS MEA
*DME/DME/IRU MEA
Tough, MT FIX | Jelro, SD FIX | *24000 | 45000
*18000—GNSS MEA
*DME/DME/IRU MEA
Jelro, SD FIX | Kekpe, SD FIX | *24000 | 45000
*18000—GNSS MEA
#DME/DME/IRU MEA
Kekpe, SD FIX | Uffda, MN FIX | *24000 | 45000
*18000—GNSS MEA
#DME/DME/IRU MEA
Uffda, MN FIX | Hstin, MN FIX | *24000 | 45000
*18000—GNSS MEA
#DME/DME/IRU MEA
Hstin, MN FIX | Zzipr, IA FIX | *18000 | 45000
*GNSS MEA

From | To | MEA
§ 95.6001 Victor Routes—U.S.
§ 95.6004 VOR Federal Airway V4 Is Amended To Read in Part
Tatoosh, WA VORTAC | #Jawbn, WA FIX | 5800
#MTA V495 SE TO V4 W 8000
Jawbn, WA FIX | Lofal, WA FIX | *5400
*4300—MOCA
§ 95.6085 VOR Federal Airway V85 Is Amended To Read in Part
Falcon, CO VORTAC | *Hygen, CO FIX | 8000
*11500—MCA HYGEN, CO FIX, NW BND
Hygen, CO FIX | *Allan, CO FIX | **13500
*16000—MRA
*15400—MCA ALLAN, CO FIX, NW BND
**12900—MOCA
*CHART: MTA V85 NW TO V361 SW 15800
*CHART: MTA V85 SE TO V361 SW 16500
*CHART: MTA V85 NW TO V361 NE 15800
*Allan, CO FIX | Laramie, WY VOR/DME | 16000
*16000—MRA
§ 95.6106 VOR Federal Airway V106 Is Amended To Read in Part
Cobol, MA FIX | Barnes, MA VORTAC | 3500
§ 95.6107 VOR Federal Airway V107 Is Amended To Read in Part
Avenal, CA VORTAC | Panoche, CA VORTAC | 8000
§ 95.6113 VOR Federal Airway V113 Is Amended To Read in Part
Priest, CA VOR | *Panoche, CA VORTAC | 7500
*5500—MCA PANOCHE, CA VORTAC, S BND
§ 95.6130 VOR Federal Airway V130 Is Amended To Delete
Albany, NY VORTAC | Stela, MA FIX | 6000
*3900—MOCA
*4000—GNSS MEA
Stela, MA FIX | Bradley, CT VORTAC | 3900
Bradley, CT VORTAC | Norwich, CT VOR/DME | 2600
§ 95.6130 VOR Federal Airway V130 Is Amended To Read in Part
Norwich, CT VOR/DME | Minnk, RI FIX | 2300
Minnk, RI FIX | Marthas Vineyard, MA VOR/DME | *3000
*1600—MOCA
§ 95.6135 VOR Federal Airway V135 Is Amended By Adding
Sayul, CA FIX | Bard, AZ VORTAC | *4000
*2700—MOCA
§ 95.6137 VOR Federal Airway V137 Is Amended By Adding
Novos, CA FIX | Imperial, CA VORTAC | *3000
*1900—MOCA
§ 95.6146 VOR Federal Airway V146 Is Amended To Read in Part
Putnam, CT VOR/DME | Providence, RI VORTAC | *3000
*2100—MOCA
§ 95.6151 VOR Federal Airway V151 Is Amended To Read in Part
Providence, RI VORTAC | Putnam, CT VOR/DME | *3000
*2100—MOCA
§ 95.6152 VOR Federal Airway V152 Is Amended To Read in Part
Jensn, FL FIX | Kizer, FL FIX | *2800
*GNSS MEA
Kizer, FL FIX | #Ormond Beach, FL VORTAC | *3600
*2800—MOCA
#ORMOND BEACH R-211 UNUSABLE BYD 26 NM
§ 95.6155 VOR Federal Airway V155 Is Amended To Read in Part
Flat Rock, VA VORTAC | Falko, VA FIX | 2000
Falko, VA FIX | Brooke, VA VORTAC | *6000
*1700—MOCA
*2000—GNSS MEA
§ 95.6165 VOR Federal Airway V165 Is Amended To Read in Part
Olympia, WA VORTAC | *Carro, WA FIX | **4000
*4000—MRA
**2000—MOCA
*CARRO, WA FIX | Diggn, WA FIX | **6000
*4000—MRA
**5000—MOCA
Diggn, WA FIX | Penn Cove, WA VOR/DME | *5000
*2600—MOCA
§ 95.6203 VOR Federal Airway V203 Is Amended by Adding
Stela, MA FIX | Albany, NY VORTAC | *6000
*4000—GNSS MEA
§ 95.6205 VOR Federal Airway V205 Is Amended To Delete
Coate, NJ FIX | Huguenot, NY VOR/DME | *4000
*3300—MOCA
Huguenot, NY VOR/DME | Weard, NY FIX | *4000
*3500—MOCA
Weard, NY FIX | *Weets, NY FIX | 6000
*6000—MRA
|  | MAA-14500
Weets, NY FIX | Stuby, CT FIX | *8500
*5000—GNSS MEA
Stuby, CT FIX | Veers, CT FIX | 3500
Veers, CT FIX | Ronge, CT FIX | 3500
Bradley, CT VORTAC | Putnam, CT VOR/DME | 3000
§ 95.6215 VOR Federal Airway V215 Is Amended To Read in Part
White CLOUD, MI VOR/DME | Gaylord, MI VOR/DME | 4000
§ 95.6233 VOR Federal Airway V233 Is Amended To Read in Part
Carga, MI FIX | Gaylord, MI VOR/DME | 4000
§ 95.6253 VOR Federal Airway V253 Is Amended To Read in Part
Twin Falls, ID VORTAC | Litke, ID FIX | 6200
Litke, ID FIX | Alkal, ID FIX
SE BND |  | 6000
NW BND |  | 9500
§ 95.6287 VOR Federal Airway V287 Is Amended To Read in Part
Olympia, WA VORTAC | *Carro, WA FIX | **4000
*4000—MRA
**2000—MOCA
*Carro, WA FIX | **Lofal, WA FIX | ***6000
*4000—MRA
**5000—MCA LOFAL, WA FIX, SW BND
**5000—MOCA
Lofal, WA FIX | Paine, WA VOR/DME | *3000
*1900—MOCA
§ 95.6311 VOR Federal Airway V311 Is Amended To Read in Part
Dubbs, TN FIX | Nello, GA FIX | *7000
*6400—MOCA
§ 95.6327 VOR Federal Airway V327 Is Amended To Read in Part
Oates, AZ FIX | *Flagstaff, AZ VOR/DME | 10500
*11000—MCA FLAGSTAFF, AZ VOR/DME, NE BND
*MTA V327 N TO V291 E 11000
§ 95.6330 VOR Federal Airway V330 Is Amended To Read in Part
Idaho Falls, ID VOR/DME | *Osity, ID FIX | 8000
*9500—MCA OSITY, ID FIX, E BND
Osity, ID FIX | *Jackson, WY VOR/DME | 14000
*13400—MCA JACKSON, WY VOR/DME, W BND
*MTA V330 E TO V520 W 16000
§ 95.6361 VOR Federal Airway V361 Is Amended To Read in Part
Kremmling, CO VOR/DME | *Allan, CO FIX | **16000
*16000—MRA
**15400—MOCA
*CHART: MTA V361 SW TO V85 SE 14700.
*CHART: MTA V361 SW TO VI5 NW 16500.
*Allan, CO FIX | **Bargr, CO FIX | #15000
*16000—MRA
**11800—MCA BARGR, CO FIX, SW BND
§ 95.6374 VOR Federal Airway V374 Is Amended To Read in Part
Gayel, NY FIX | Binghamton, NY VORTAC | *10000
*4400—MOCA
*4400—GNSS MEA
§ 95.6405 VOR Federal Airway V405 Is Amended by Deleting
Pawling, NY VOR/DME | Veers, CT FIX | *4000
*3500—MOCA
Veers, CT FIX | Bradley, CT VORTAC | 3500
Bradley, CT VORTAC | Providence, RI VORTAC | *3000
*2200—MOCA
§ 95.6405 VOR Federal Airway V405 Is Amended To Read in Part
Pawling, NY VOR/DME | Cobol, MA FIX | *4000
*3500—MOCA
Cobol, MA FIX | Barnes, MA VORTAC | 3500
Barnes, MA VORTAC | Putnam, CT VOR/DME | *3000
*2500—MOCA
Putnam, CT VOR/DME | Providence, RI VORTAC | *3000
*2100—MOCA
Providence, RI VORTAC | Falma, RI FIX | *3000
*1400—MOCA
§ 95.6407 VOR Federal Airway V407 Is Amended To Read in Part
Harlingen, TX VOR/DME | Jimie, TX FIX
N BND |  | *6000
S BND |  | *1700
*1700—GNSS MEA
Jimie, TX FIX | Jetty, TX FIX | *6000
*1800—MOCA
*2000—GNSS MEA
Jetty, TX FIX | Corpus Christi, TX VORTAC
N BND |  | *2100
S BND |  | *3800
*2100—GNSS MEA
§ 95.6419 VOR Federal Airway V419 Is Amended To Delete
Carmel, NY VOR/DME | Bradley, CT VORTAC | 3000
Bradley, CT VORTAC | Boston, MA VOR/DME | *4000
*2500—MOCA
*3000—GNSS MEA
§ 95.6419 VOR Federal Airway V419 Is Amended To Read in Part
Carmel, NY VOR/DME | Briss, CT FIX | 3000
§ 95.6495 VOR Federal Airway V495 Is Amended To Read in Part
U.S. Canadian Border | #Jawbn, WA FIX | *5400
*4300—MOCA
#V495 SE TO V4 W 8000
Jawbn, WA FIX | Lofal, WA FIX | *5800
*4300—MOCA

From | To | MEA | MAA
§ 95.7001 Jet Routes
§ 95.7084 Jet Route J84 Is Amended To Read in Part
Sidney, NE VORTAC | Wolbach, NE VORTAC | 18000 | 45000
§ 95.7095 Jet Route J95 Is Amended To Read in Part
Gayel, NY FIX | Binghamton, NY VORTAC | 18000 | 45000
§ 95.7100 Jet Route J100 Is Amended To Read in Part
Sidney, NE VORTAC | Wolbach, NE VORTAC | 18000 | 45000

Airway segment: From | Airway segment: To | Changeover points: Distance | Changeover points: From
§ 95.8003 VOR Federal Airway Changeover Points
V155 Is Amended To Add Changeover Point
Flat Rock, VA VORTAC | Brooke, VA VORTAC | 43 | Flat Rock.
V419 Is Amended To Delete
Boston, MA VOR/DME | Bradley, CT VORTAC | 49 | Boston.

[FR Doc. 2012-11017 Filed 5-9-12; 8:45 am]

BILLING CODE 4910-13-P